DEPARTMENT OF THE INTERIOR

Bureau of Land Management

[AK-932-1430-FQ; AA-17989, AA-65551]

Public Land Order No. 7674; Partial Revocation of Executive Order No. 3406 and Executive Order Dated January 4, 1901; Alaska

AGENCY: Bureau of Land Management, Interior.

ACTION: Public Land Order.

SUMMARY: This order revokes two Executive Orders insofar as they affect approximately 1,725.81 acres of National Forest System lands withdrawn for lighthouse purposes within Alaska. The lands are no longer needed for the purpose for which they were withdrawn.

EFFECTIVE DATE: January 17, 2007.

FOR FURTHER INFORMATION CONTACT: Terrie D. Evarts, Bureau of Land Management, Alaska State Office, 222 W. Seventh Avenue, #13, Anchorage, Alaska 99513-7599, 907-271-5630.

SUPPLEMENTARY INFORMATION: The lands withdrawn for Cape Decision, Point Retreat, and Five Finger lighthouses were conveyed out of Federal ownership pursuant to Public Law 105-383 (112 Stat. 3411). This revocation is for record-clearing purposes only.

Order

By virtue of the authority vested in the Secretary of the Interior by section 204 of the Federal Land Policy and Management Act of 1976, 43 U.S.C. 1714 (2000), it is ordered as follows:

Executive Order No. 3406 and Executive Order dated January 4, 1901, which withdrew National Forest System lands from surface entry and mining and reserved them for use by the United States Coast Guard for lighthouse purposes, are hereby revoked insofar as they affect the following described lands:

Copper River Meridian

(Cape Decision Executive Order No. 3406),

U. S. Survey No. 1609, located within Tps. 67 and 68 S., R. 73 E.,

(Point Retreat Executive Order dated January 4, 1901),

U. S. Survey No. 1597, located within T. 40 S., Rs. 63 and 64 E.,

(Five Finger Executive Order dated January 4, 1901),

Island located within T. 53 S., R. 74 E., sec. 15, S½.,

The areas aggregate approximately 1,725.81 acres.

Dated: December 14, 2006.
C. Stephen Allred,
Assistant Secretary, Land and Minerals Management.

[FR Doc. E7-522 Filed 1-16-07; 8:45 am]

BILLING CODE 4310-JA-P